SMALL BUSINESS ADMINISTRATION

[Disaster Declaration # 10007 and # 10008]

Indiana Disaster Number IN-00001

AGENCY: U.S. Small Business Administration.

ACTION: Amendment 2.

SUMMARY: This is an amendment of the Presidential declaration of a major disaster for the State of Indiana (FEMA-1573-DR), dated January 21, 2005.

Incident: Severe Winter Storms and Flooding.

Incident Period: January 1, 2005, through February 11, 2005.

DATES: Effective Date: February 11, 2005.

Physical Loan Application Deadline Date: March 22, 2005.

EIDL Loan Application Deadline Date: October 21, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the President's major disaster declaration for Indiana, dated January 21, 2005, is hereby amended to establish the incident period for this disaster as beginning January 1, 2005, and continuing through February 11, 2005.

All other information in the original declaration remains unchanged.

(Catalog of Federal Domestic Assistance Numbers 59002 and 59008)

Herbert L. Mitchell,
Associate Administrator for Disaster Assistance.

[FR Doc. 05-4782 Filed 3-10-05; 8:45 am]

BILLING CODE 8025-01-P